DEPARTMENT OF TRANSPORTATION

Surface Transportation Board

[STB Finance Docket No. 33997]

Texas Central Business Lines Corporation—Operation Exemption—MidTexas International Center

Texas Central Business Lines Corporation (TCB) has filed a verified notice of exemption under 49 CFR 1150.31 to provide nonexclusive switching service over approximately 5.0 miles of yard and switching track located entirely within the MidTexas International Center, Inc. (Inland Port).¹ The track generally is located north of State Highway 287 and east of U.S. Highway 67 in Midlothian, TX.

¹ TCB and Inland Port have negotiated an agreement for TCB's services, the initial term of which is 10 years.

The transaction is expected to be consummated on or after March 1, 2001.²

² TCB simultaneously filed a petition to dismiss the verified notice of exemption. The Board will address the jurisdictional issue raised by the petition to dismiss in a subsequent decision.

If the verified notice contains false or misleading information, the exemption is void ab initio. Petitions to reopen the proceeding to revoke the exemption under 49 U.S.C. 10502(d) may filed at any time. The filing of a petition to revoke will not automatically stay the transaction.

An original and 10 copies of all pleadings, referring to STB Finance Docket No. 33997, must be filed with the Surface Transportation Board, Office of the Secretary, Case Control Unit, 1925 K Street, NW., Washington, DC 20423-0001. In addition, a copy of each pleading must be served on David D. Watson, P.O. Box 665, Waxahachie, TX 75168.

Board decisions and notices are available on our website at “WWW.STB.DOT.GOV.”

Decided: February 5, 2001.
By the Board, David M. Konschnik, Director, Office of Proceedings.
Vernon A. Williams,
Secretary.

[FR Doc. 01-3392 Filed 2-8-01; 8:45 am]

BILLING CODE 4915-00-P